DEPARTMENT OF COMMERCE

International Trade Administration

Executive Green ICT & Energy Efficiency Trade Mission to Mexico City, Mexico

AGENCY: International Trade Administration, Department of Commerce.

ACTION: Notice.

Mission Description

The United States Department of Commerce, International Trade Administration, and U.S. & Foreign Commercial Service are organizing an Executive Green ICT & Energy Efficiency Trade Mission to Mexico City from September 27-29, 2010. This Executive led mission will focus on assisting U.S. providers of “Green Information & Communication Technology (ICT)” solutions, as well as energy efficiency technologies to enter or increase their presence in various sectors of the Mexican market. This will include data centers, telecommunications, utilities, and construction. Green ICTs—or smart technologies—provide monitoring, supervision and automation capabilities to reach energy efficiency in the mentioned industries, such as smart grids and smart buildings. The mission will support U.S. delegates to gain market insight, local private and public contacts, and identify potential business opportunities and partners. In addition to the welcome reception and Matchmaking Services, a 1-day Green ICT & Energy Efficiency conference will take place at the World Trade Center in Mexico City. Relevant issues on energy efficiency in data centers, smart grids, and green buildings will be discussed. Mission delegates will have an opportunity to exhibit outside of the conference hall during this event.

Furthermore, this mission will take place during the same days as The Green Expo at the World Trade Center in Mexico City. As a separate activity and independent of the mission, delegates will be granted a discount by EJ Krause, organizer of The Green Expo, to exhibit at the show in the USA Pavilion.

Commercial Setting

On August 10, 2009 during the North American Leaders Summit, Presidents Obama and Calderón committed their two countries to work together on environmental cooperation, sustainable development, and clean energy research, development, and deployment issues.

President Felipe Calderon in his 2007 National Strategy on Climate Change recognized the importance and need for environmentally friendly policies and solutions within Mexico and set a target of reducing 107 million tons of green house gases (GHG) by 2014 in the energy sector alone. Mexico currently has several green friendly projects funded by the World Bank, including wind technologies, waste management, renewable energy development projects, modernization of the water and sanitation sectors, and a hybrid solar thermal power plant. With a demonstrated interest in expanding environmentally friendly projects and policies, Mexico provides a growing market for green technologies.

The Information and Communications Technology industry (ICT), which includes telecom service operators (fixed, wireless, cable, Internet, etc.) as well as IT service and management firms, integrators, software developers, and equipment manufacturers, have a fundamental role in reducing the negative environmental impact of emissions.

ICT has increased productivity and competitiveness, and supported economic growth around the world. Today, ICT is an important supporter of a sustainable environment by becoming an enabler of energy efficiencies in multiple industrial sectors, particularly in power transmission and distribution, manufacturing, construction, and transportation emissions. Furthermore, the ICT sector has its own energy efficiency challenges to overcome, such as to reduce energy consumption in enterprise IT and Data Center operations.

Mission Goals

The goals of the Green ICT and Energy Efficiency Trade Mission to Mexico City are to (1) create business, networking, and exhibition opportunities for participating companies, and create awareness in Mexico of the U.S. green information technology and energy efficiency technologies available; (2) provide information and energy efficiency solutions for the Mexican Government, public utility company, construction sector, and IT companies and telecommunication operators by highlighting U.S. company solutions; (3) showcase ICT sustainable environment and energy efficiency solutions for different industry sectors to improve monitoring and supervision.

Mission Scenario

The Green ICT and Energy Efficiency Trade Mission will promote and showcase mission delegates at different levels. They will be able to attend and exhibit in a specialized conference. Additionally, they will have the opportunity to formally exhibit in the USA Pavilion during The Green Expo. Finally, delegates will have various opportunities for high level matchmaking and networking with Mexican companies, government, organizations and specialists.

The mission will have the following components:

• Networking and Welcome Reception. September 27—7 p.m.-9:30 p.m. A networking reception will be held the evening before the Green ICT and Energy Efficiency Conference. Attendees will include mission members, U.S. Government officials, Government of Mexico officials, speakers and sponsors. The venue will be the Ambassador's Residence.

• Green ICT and Energy Efficiency Conference. September 28—8 a.m.-6 p.m. There will be 8 keynote speakers discussing key issues of Green ICT and Energy Efficiency solutions in three sectors: Telecommunications, electric grid, and construction. The speakers will be any or a combination of the following: Industry, sponsors, USG, and GOM officials. The focus will be on U.S. products/solutions and their application to Mexico.

• Exhibition. September 28—8 a.m.-6 p.m. Mission members can exhibit products and services on tabletop displays outside of the conference hall.

• Matchmaking. September 29—8 a.m.-6 p.m. Pre-screened one-on-one appointments will be arranged in Mexico City.

• The Green Expo Trade Show. September 28-30. CS Mexico will host a USA Pavilion for companies providing environmental solutions, such as water, alternative energy, etc. EJ Krause will grant a discount to those mission members that would like to exhibit at the pavilion during their visit to Mexico City.

Proposed Mission Timetable

Mission participants will be encouraged to arrive no later than early afternoon Monday, September 27 in order to participate in the evening networking and welcome reception.

Monday, Sept. 27 | 6:30 p.m.-7 p.m. Trade Mission briefing in hotel
| 7:30 p.m.-9:30 p.m. Networking Reception, Ambassador's Residence
Tuesday, Sept. 28 | Mexico City
| 8 a.m.-6 p.m. Green ICT and Energy Efficiency Conference, Room Olmeca 3, WTC Mexico City
Wednesday, Sept. 29 | Mexico City
| 8 a.m.-6 p.m. Gold Key Appointments, Mexico City
| End Mission

Participation Requirements

All parties interested in participating in the Executive Green ICT and Energy Efficiency Trade Mission must complete and submit an application package for consideration by the Department of Commerce. All applicants will be evaluated on their ability to meet certain conditions and best satisfy the selection criteria as outlined below. A minimum of fifteen U.S. companies and maximum of twenty-five U.S. companies will be selected to participate in the mission from the applicant pool. The Executive Green ICT and Energy Efficiency Trade Mission will seek to recruit U.S. IT small and medium size companies that provide products, solutions, technologies, and “know-how” aimed at efficient energy use in the telecom, energy and construction sectors.

Fees and Expenses

After a company has been selected to participate in the mission, a payment to the Department of Commerce in the form of a participation fee is required. The participation fee will be $2,900 for large firms and $2,450 for a small or medium-sized enterprise (SME).¹ The fee includes participation of two company representatives; the fee for each additional firm representative (large firm or SME) is $500. Expenses for travel, transportation, lodging, most meals, and incidentals will be the responsibility of each mission participant.

¹ An SME is defined as a firm with 500 or fewer employees or that otherwise qualifies as a small business under SBA regulations (see http://www.sba.gov/services/contractingopportunities/sizestandardstopics/index.html).

Conditions for Participation

• An applicant must submit a completed and signed mission application and supplemental application materials, including adequate information on the company's products and/or services, primary market objectives, and goals for participation. If the Department of Commerce receives an incomplete application, the Department may reject the application, request additional information, or take the lack of information into account when evaluating the applications.

• Each applicant must also certify that the products and services it seeks to export through the mission are either produced in the United States, or, if not, marketed under the name of a U.S. firm and have at least 51 percent U.S. content of the value of the finished product or service.

Selection Criteria for Participation

Selection will be based on the following criteria:

• Suitability of a company's products or services to the mission's goals.

• Applicant's potential for business in Mexico, including likelihood of exports resulting from the trade mission.

• Consistency of the applicant's goals and objectives with the stated scope of the trade mission.

Referrals from political organizations and any documents containing references to partisan political activities (including political contributions) will be removed from an applicant's submission and not considered during the selection process.

Timeframe for Recruitment and Applications

Mission recruitment will be conducted in an open and public manner, including publication in the Federal Register, posting on the Commerce Department trade mission calendar (www.ita.doc.gov/doctm/tmcal.html) and other Internet Web sites, press releases to general and trade media, direct mail, notices by industry trade associations and other multiplier groups, and publicity at industry meetings, symposia, conferences, and trade shows. Recruitment for the mission will begin immediately and conclude no later than August 2, 2010. Applications received after that date will be considered only if space and scheduling constraints permit.

Contacts

U.S. Commercial Service in Mexico City:

Aliza Totayo, Commercial Officer, T: +52 (55) 5140-2635, Aliza.Totayo@mail.doc.gov;

Juan Carlos Prieto, Commercial Specialist, T: +52 (55) 5140-2634, JuanCarlos.Prieto@mail.doc.gov.

Natalia Susak,
Global Trade Programs, Commercial Service Trade Missions Program.

[FR Doc. 2010-12207 Filed 5-20-10; 8:45 am]

BILLING CODE 3510-FP-P